DEPARTMENT OF THE TREASURY

Submission for OMB Review; Comment Request

September 7, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 16, 2000, to be assured of consideration.

Customs Service (CUS)

OMB Number: 1515-0013.

Form Number: Customs Form 3171.

Type of Review: Extension.

Title: Application-Permit-Special License Unlading/Lading, Overtime Services.

Description: Customs Form 3171, is used by commercial carriers and importers to request permission to unlade imported merchandise, baggage, or passengers for overtime services of Customs officers in connection with lading or unlading of merchandise, or the entry or clearance of a vessel, including the boarding of a vessel for preliminary supplies, ship's stores, sea stores, or equipment not to be reladen, which is subject to free or duty-paid entry.

Respondents: Business or other for-profit, individuals or households, not-for-profit institutions.

Estimated Number of Respondents: 1,500.

Estimated Burden Hours Per Respondent: 6 minutes.

Frequency of Response: On occasion.

Estimated Total Reporting Burden: 39,900 hours.

OMB Number: 1515-0086.

Form Number: Customs Forms 214, 214A, 214B, 214C, and 216.

Type of Review: Extension.

Title: Application for Foreign Trade Zone Admission and Status Designation.

Description: This collection is used by business firms which bring merchandise into a foreign trade zone, to register the admission of such merchandise to zones and to apply for the appropriate zone status.

Respondents: Business or other for-profit, individuals or households, not-for-profit institutions.

Estimated Number of Respondents: 10,000.

Estimated Burden Hours Per Respondent: 15 minutes per form.

Frequency of Response: On occasion.

Estimated Total Reporting Burden: 79,500 hours.

OMB Number: 1515-0101.

Form Number: None.

Type of Review: Extension.

Title: Holders or Containers Which Enter the United States Duty Free.

Description: The marking is used to provide for duty free entry of holders or containers which were manufactured in the United States and exported and returned. The regulations provide for free entry of holders and containers of foreign manufacture if duty has been paid before.

Respondents: Business or other for-profit, individuals or households, not-for-profit institutions.

Estimated Number of Respondents: 20.

Estimated Burden Hours Per Respondent: 4 hours.

Frequency of Response: On occasion.

Estimated Total Reporting Burden: 90 hours.

Clearance Officer: J. Edgar Nichols, (202) 927-1426, U.S. Customs Service, Information Services Branch, Ronald Reagan Building, 1300 Pennsylvania Avenue, NW., Room 3.2.C, Washington, DC 20229.

OMB Reviewer: Alexander T. Hunt(202) 395-7860, Office of Management and Budget, Room 10202, New Executive Office Building, Washington, DC 20503.

Lois K. Holland,
Departmental Reports, Management Officer.

[FR Doc. 00-23558 Filed 9-14-00; 8:45 am]

BILLING CODE 4820-02-U